DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a tour and meeting of the Arizona Resource Advisory Council (RAC). A pre-tour briefing will be conducted on March 30, 2000 from 8-10 a.m. at the BLM Safford Field Office located at 711 14th Avenue, Safford, Arizona. BLM staff will provide a review of the Standards for Rangeland Health and Guidelines for Grazing Administration (S&Gs) and the implementation process. After this two-hour briefing, BLM staff and RAC will tour a BLM grazing allotment called Johnny Creek near Safford. The tour objectives are to provide the RAC with field training on resource evaluation and on-the-ground S&G application. The business meeting will be held on March 31 at the Ramada Inn located at 420 E. Highway 70 in Safford, Arizona. It will begin at 9 a.m. and will conclude at approximately 4 p.m. The agenda items to be covered include the review of the January 21, 2000, meeting minutes; BLM State Director's Update on legislation, regulations and statewide planning efforts; Emerging Recreation Issues on Public Land; Wild Horse and Burro National Strategy Update; Growing Smarter in Arizona Initiative Presentation; Discussion on New Monument Designation Process; Update Proposed Field Office Rangeland Resource Teams; Reports from BLM Field Office Managers; Reports by the Standards and Guidelines, Recreation and Public Relations, Wild Horse and Burro Working Groups; Reports from RAC members; and Discussion of future meetings. A public comment period will be provided at 11:30 a.m. on March 31, 2000, for any interested publics who wish to address the Council.

For Further Information Contact: Deborah Stevens, Bureau of Land Management, Arizona State Office, 222 North Central Avenue, Phoenix, Arizona 85004-2203, (602) 417-9215.

Denise P. Meridith,
Arizona State Director.

[FR Doc. 00-5007 Filed 3-1-00; 8:45 am]

BILLING CODE 4310-32-M